DEPARTMENT OF COMMERCE

International Trade Administration

[A-523-812]

Circular Welded Carbon-Quality Steel Pipe From Oman: Final Results of Antidumping Duty Administrative Review; 2017-2018

AGENCY: Enforcement and Compliance, International Trade Administration, Department of Commerce.

SUMMARY: The Department of Commerce (Commerce) determines that Al Jazeera Steel Products Co. SAOG (Al Jazeera) made sales of certain welded carbon-quality steel pipe from Oman at less than normal value (NV) during the period of review (POR) December 1, 2017 through November 30, 2018.

DATES: Applicable April 24, 2020.

FOR FURTHER INFORMATION CONTACT: Dennis McClure or Robert Palmer, AD/CVD Operations, Office VIII, Enforcement and Compliance, International Trade Administration, U.S. Department of Commerce, 1401 Constitution Avenue NW, Washington, DC 20230; telephone: (202) 482-5973 or (202) 482-9068, respectively.

SUPPLEMENTARY INFORMATION:

Background

Commerce published the Preliminary Results on December 11, 2018.¹ For events subsequent to the Preliminary Results, see Issues and Decision Memorandum.²

¹ See Circular Welded Carbon-Quality Steel Pipe from the Sultanate of Oman: Preliminary Results of Antidumping Duty Administrative Review; 2017-2018, 84 FR 70150 (December 20, 2019) (Preliminary Results), and accompanying Preliminary Decision Memorandum.

² See Memorandum, “Circular Welded Carbon-Quality Steel Pipe from the Sultanate of Oman: Issues and Decision Memorandum for the Final Results of Administrative Review; 2017-2018,” dated concurrently with, and hereby adopted by, this notice (Issues and Decision Memorandum).

Scope of the Order

Imports covered by the order are shipments of circular welded carbon-quality steel pipe. The merchandise subject to review is currently classifiable under items 7306.19.1010, 7306.19.1050, 7306.19.5110, 7306.19.5150, 7306.30.1000, 7306.30.5015, 7306.30.5020, 7306.30.5025, 7306.30.5032, 7306.30.5040, 7306.30.5055, 7306.30.5085, 7306.30.5090, 7306.50.1000, 7306.50.5030, 7306.50.5050, and 7306.50.5070 of the Harmonized Tariff Schedule of the United States (HTSUS). Although the HTSUS subheadings are provided for convenience and customs purposes, the written description of the merchandise subject to the order is dispositive. For a complete description of the scope of the order, see Issues and Decision Memorandum.

Analysis of Comments Received

We addressed the issues raised in parties' case and rebuttal briefs in the Issues and Decision Memorandum. A list of the issues raised by parties is provided in the appendix to this notice. The Issues and Decision Memorandum is a public document and is on-file electronically via Enforcement and Compliance's Antidumping and Countervailing Duty Centralized Electronic Service System (ACCESS). ACCESS is available to registered users at https://access.trade.gov. In addition, a complete version of the Issues and Decision Memorandum can be accessed directly at http://enforcement.trade.gov/frn/index.html. The signed and electronic versions of the Issues and Decision Memorandum are identical in content.

Changes Since the Preliminary Results

Based on a review of the record and comments received from interested parties regarding the Preliminary Results, we have recalculated the weighted-average dumping margin for Al Jazeera.³

³ See Issues and Decision Memorandum; see also Memorandum, “Final Results Margin Calculation for Al Jazeera Steel Products Co.,” dated concurrently with this memorandum.

Final Results of the Review

As a result of this review, Commerce determines that the following weighted-average dumping margin exists for the period December 1, 2017 through November 30, 2018:

Producer and/or exporter | Weighted- average dumping margin (percent)
Al Jazeera Steel Products Co. SAOG | 1.10

Duty Assessment

Pursuant to section 751(a)(2)(C) of the Tariff Act of 1930, as amended (the Act), and 19 CFR 351.212(b), Commerce shall determine and U.S. Customs and Border Protection (CBP) shall assess antidumping duties on all appropriate entries of subject merchandise in accordance with the final results of this review.⁴ Commerce intends to issue appropriate assessment instructions directly to CBP 15 days after publication of the final results of this administrative review.

⁴ In these final results, Commerce applied the assessment rate calculation method adopted in Antidumping Proceedings: Calculation of the Weighted-Average Dumping Margin and Assessment Rate in Certain Antidumping Proceedings: Final Modification, 77 FR 8101 (February 14, 2012).

For Al Jazeera, we calculated importer-specific ad valorem duty assessment rates based on the ratio of the total amount of dumping calculated for the importer's examined sales to the total entered value of those same sales in accordance with 19 CFR 351.212(b)(1). Upon issuance of the final results of this administrative review, if any importer-specific assessment rates calculated in the final results are above de minimis (i.e., at or above 0.5 percent), Commerce will issue instructions directly to CBP to assess antidumping duties on appropriate entries. Where an importer-specific assessment rate is zero or de minimis, we will instruct CBP to liquidate the appropriate entries without regard to antidumping duties.

In accordance with Commerce's “automatic assessment” practice,⁵ for entries of subject merchandise during the POR produced by Al Jazeera for which it did not know that its merchandise was destined for the United States, we will instruct CBP to liquidate unreviewed entries at the all-others rate if there is no rate for the intermediate company(ies) involved in the transaction. We intend to issue assessment instructions directly to CBP 15 days after publication of the final results of this review.

⁵ For a full discussion of this clarification, see Antidumping and Countervailing Duty Proceedings: Assessment of Antidumping Duties, 68 FR 23954 (May 6, 2003).

Cash Deposit Requirements

The following cash deposit requirements will be effective upon publication of the notice of final results of administrative review for all shipments of subject merchandise entered, or withdrawn from warehouse, for consumption on or after the publication of the final results of this administrative review, as provided by section 751(a)(2) of the Act: (1) The cash deposit rate for Al Jazeera will be the rate established in the final results of this administrative review, as noted above; (2) for merchandise exported by manufacturers or exporters not covered in this administrative review but covered in a prior segment of the proceeding, the cash deposit rate will continue to be the company-specific rate published for the most recently completed segment of this proceeding; (3) if the exporter is not a firm covered in this review, a prior review, or the original investigation, but the manufacturer is, then the cash deposit rate will be the rate established for the most recently completed segment of this proceeding for the manufacturer of the subject merchandise; and (4) the cash deposit rate for all other manufacturers or exporters will continue to be 7.36 percent, the all-others rate established in the less-than-fair-value investigation.⁶ These cash deposit requirements, when imposed, shall remain in effect until further notice.

⁶ See Circular Welded Carbon-Quality Steel Pipe from the Sultanate of Oman, Pakistan, and the United Arab Emirates: Amended Final Affirmative Antidumping Duty Determination and Antidumping Duty Orders, 81 FR 91906 (December 19, 2016).

Notification to Importers

This notice serves as a final reminder to importers of their responsibility under 19 CFR 351.402(f) to file a certificate regarding the reimbursement of antidumping and/or countervailing duties prior to liquidation of the relevant entries during the POR. Failure to comply with this requirement could result in Commerce's presumption that reimbursement of antidumping and/or countervailing duties occurred and the subsequent assessment of doubled antidumping and/or countervailing duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5).

Dated: April 20, 2020.
Jeffrey I. Kessler,
Assistant Secretary for Enforcement and Compliance.

Appendix

List of Topics Discussed in the Issues and Decision Memorandum

I. Summary

II. Background

III. Scope of the Order

IV. Discussion of the Issues

Comment 1: Whether a Particular Market Situation (PMS) Exists in Oman

Comment 2: Whether Nucor Tubular Was Prejudiced by Rejection of Untimely Comments

Comment 3: Whether To Recalculate Section 232 Duties

Comment 4: Whether To Apply the Affiliated Party Test

V. Recommendation

[FR Doc. 2020-08759 Filed 4-23-20; 8:45 am]

BILLING CODE 3510-DS-P